DEPARTMENT OF HEALTH AND HUMAN SERVICES

National Institutes of Health

National Institute of Mental Health; Notice of Workshop

Notice is hereby given of a workshop convened by the Interagency Autism Coordinating Committee (IACC).

The purpose of the 2019 IACC Workshop, Addressing the Health Outcome Needs of People with Autism Spectrum Disorder (ASD), is to convene a working group of the IACC that will focus on the health outcome needs of individuals with ASD. The working group will use this workshop to discuss health epidemiology, patient-provider interactions, and co-occurring health conditions that affect individuals with ASD. The workshop will be open to the public, will include time for public comments, and will be accessible by live webcast and conference call.

Name of Committee: Interagency Autism Coordinating Committee (IACC).

Type of meeting: 2019 IACC Workshop on Addressing the Health Outcome Needs of People with Autism Spectrum Disorder.

Date: Tuesday, May 21, 2019.

Time: 8:30 a.m. to 5:00 p.m. Eastern Time.

Agenda: The workshop will focus the discussion on the health and wellness of individuals with Autism Spectrum Disorder, including health epidemiology, patient-provider interaction, and the state of the science on commonly co-occurring health conditions affecting individuals on the autism spectrum.

Place: Hilton Washington DC/Rockville Hotel and Executive Meeting Ctr, 1750 Rockville Pike, Rockville, MD 20852.

Webcast Live: https://videocast.nih.gov.

Conference Call: 800-369-3119.

Access code: 5777378.

Cost: The meeting is free and open to the public.

Registration: A registration web link will be posted on the IACC website (www.iacc.hhs.gov) prior to the meeting. Pre-registration is recommended to expedite check-in. Seating in the meeting room is limited to room capacity and on a first come, first served basis. Onsite registration will also be available.

Deadlines: Notification of intent to present oral comments: Friday, May 10, 2019, by 5:00 p.m. ET. Submission of written/electronic statement for oral comments: Tuesday, May 14, 2019, by 5:00 p.m. ET. Final deadline for submission of written comments: Tuesday, May 14, 2019, by 5:00 p.m. ET. Webcast Live Feedback Public comments: No preregistration required. For instructions, see https://iacc.hhs.gov/meetings/iacc-meetings/live-feedback.shtml. For IACC public comment guidelines, please see: https://iacc.hhs.gov/meetings/public-comments/guidelines/.

Access: Twinbrook Metro Station (Red Line).

Contact Person: Ms. Angelice Mitrakas, Office of Autism Research Coordination, National Institute of Mental Health, NIH, 6001 Executive Boulevard, Room 7218, Bethesda, MD 20892-9669, Phone: 301-435-9269, Email: IACCPublicInquiries@mail.nih.gov.

Public Comments: The IACC invites oral and written public-related comments relevant to the topic of the workshop. Individuals interested in presenting oral comments must notify the Contact Person listed on this notice by 5:00 p.m. ET on Friday, May 10, 2019, with their request to present oral comments at the meeting, and a written/electronic copy of the oral presentation/statement must be submitted by 5:00 p.m. ET on Tuesday, May 14, 2019.

A limited number of slots for oral comment are available and will be assigned on a first come, first serve basis. Only one representative of an organization will be allowed to present oral comments at this meeting; other representatives of the same group may provide written comments. If the oral comment session is full, individuals who could not be accommodated are welcome to provide written comments instead. Comments to be read or presented in the meeting will be assigned a 3-minute time slot, but a longer version may be submitted in writing for the record. Commenters going beyond their allotted time in the meeting may be asked to conclude immediately to allow other comments and presentations to proceed on schedule.

Any interested person may submit written public comments to the IACC prior to the meeting by emailing the comments to IACCPublicInquiries@mail.nih.gov, or by submitting comments at the web link: https://iacc.hhs.gov/meetings/public-comments/submit/index.jsp by 5:00 p.m. ET on Tuesday, May 14, 2019. The comments should include the name, address, telephone number and when applicable, the business or professional affiliation of the interested person. NIMH anticipates written public comments received by 5:00 p.m. ET on Tuesday, May 14, 2019, will be presented to the working group prior to the workshop. Any written comments received after the by 5:00 p.m. ET on Tuesday, May 14, 2019 deadline through Monday, May 20, 2019, will be provided to the working group either before or after the meeting, depending on the volume of comments received and the time required to process them in accordance with privacy regulations and other applicable Federal policies. All written public comments and oral public comment statements received by the deadlines for both oral and written public comments will be provided to the IACC for their consideration and will become part of the public record. Attachments of copyrighted publications are not permitted, but web links or citations for any copyrighted works cited may be provided.

Individuals may also submit public comments to the IACC via a Live Feedback Form accessible from the webcast page on the day of the meeting from 9:00 a.m. ET to 11:00 a.m. ET. No pre-registration required. The link will be accessible on the NIH Videocast website and instructions are available on the IACC website: https://iacc.hhs.gov/meetings/iacc-meetings/live-feedback.shtml This format is best suited for brief questions and comments for the IACC. Submissions will be provided to the IACC and will become a part of the public record.

In the 2009 IACC Strategic Plan, the IACC listed the “Spirit of Collaboration” as one of its core values, stating that, “We will treat others with respect, listen to diverse views with open minds, discuss submitted public comments, and foster discussions where participants can comfortably offer opposing opinions.” In keeping with this core value, the IACC and the NIMH Office of Autism Research Coordination (OARC) ask that members of the public who provide public comments or participate in meetings of the IACC also seek to treat others with respect and consideration in their communications and actions, even when discussing issues of genuine concern or disagreement.

Remote Access: The meeting will be open to the public through a conference call phone number and webcast live on the internet. Members of the public who participate using the conference call phone number will be able to listen to the meeting but will not be heard. If you experience any technical problems with the webcast or conference call, please send an email to IACCPublicInquiries@mail.nih.gov.

Individuals wishing to participate in person or by using these electronic services and who need special assistance, such as captioning of the conference call or other reasonable accommodations, should submit a request to the Contact Person listed on this notice at least 5 days prior to the meeting.

Disability Accommodations: All IACC Full Meetings provide Closed Captioning through the NIH videocast website. Remote CART is provided through a web application and will be available at all meetings; the application can be used on a laptop computer or mobile device. For details please inquire with the Contact Person listed on the notice.

Individuals whose full participation in the meeting will require special accommodations (e.g., sign language, or interpreting services, etc.) must submit a request to the Contact Person listed on the notice at least seven (7) business days prior to the meeting. Such requests should include a detailed description of the accommodation needed and a way for the IACC to contact the requester if more information is needed to fill the request. Special requests should be made as early as possible; last minute requests may be made but may not be possible to accommodate.

Security: Visitors will be asked to show one form of identification (for example, a government-issued photo ID, driver's license, or passport) and to state the purpose of their visit. Also, as a part of security procedures, attendees should be prepared to present a photo ID at the meeting registration desk during the check-in process. Pre-registration is recommended. Seating will be limited to the room capacity and seats will be on a first come, first serve basis, with expedited check-in for those who are pre-registered.

Meeting schedule subject to change. Information about the IACC is available on the website: http://www.iacc.hhs.gov.

Dated: April 23, 2019.
Melanie J. Pantoja,
Program Analyst, Office of Federal Advisory Committee Policy.

[FR Doc. 2019-08501 Filed 4-26-19; 8:45 am]

BILLING CODE 4140-01-P